DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: April 11, 2016.
Roy E. Wright,
Deputy Associate Administrator for Insurance and Mitigation, Department of Homeland Security, Federal Emergency Management Agency.

State and county | Location and case No. | Chief executive officer of community | Community map repository | Effective date of modification | Community No.
Illinois:
Cook (FEMA Docket No.: B-1551) | Village of Alsip (15-05-5016P) | The Honorable Patrick E. Kitching, Mayor, Village of Alsip, 4500 West 123rd Street, Alsip, IL 60803 | Village Office, 4500 West 123rd Street, Alsip, IL 60803 | Jan. 8, 2016 | 170055
DuPage (FEMA Docket No.: B-1559) | City of Chicago (15-05-1012P) | The Honorable Rahm Emanuel, Mayor, City of Chicago, Chicago City Hall, Room 406, 121 North LaSalle Street, Chicago, IL 60602 | Department of Buildings, Stormwater Management, 121 North LaSalle Street, Room 906, Chicago, IL 60602 | Feb. 5, 2016 | 170074
DuPage (FEMA Docket No.: B-1559) | Village of Bensenville (15-05-1012P) | The Honorable Frank Soto, Village President, Village of Bensenville, 12 South Center Street, Bensenville, IL 60106 | Village Hall, 12 South Center Street, Bensenville, IL 60106 | Feb. 5, 2016 | 170200
DuPage (FEMA Docket No.: B-1559) | Village of Elk Grove Village (15-05-1012P) | The Honorable Craig B. Johnson, Mayor, Village of Elk Grove Village, 901 Wellington Avenue, Elk Grove Village, IL 60007 | Engineering and Community Development Department, 901 Wellington Avenue, Elk Grove Village, IL 60007 | Feb. 5, 2016 | 170088
Kankakee (FEMA Docket No.: B-1544) | Village of Manteno (15-05-4922P) | The Honorable Timothy Nugent, Mayor, Village of Manteno, 98 East 3rd Street, Manteno, IL 60950 | Village Hall, 98 East 3rd Street, Manteno, IL 60950 | Dec. 17, 2015 | 170878
McHenry (FEMA Docket No.: B-1551) | Village of Johnsburg (15-05-6182X) | The Honorable Edwin P. Hettermann, Village President, Village of Johnsburg, 1515 Channel Beach Avenue, Johnsburg, IL 60051 | Village Hall, 1515 West Channel Beach Avenue, Johnsburg, IL 60051 | Feb. 4, 2016 | 170486
Peoria (FEMA Docket No.: B-1551) | City of Peoria (15-05-2741P) | The Honorable Jim Ardis, Mayor, City of Peoria, 419 Fulton Street, Suite 401, Peoria, IL 61602 | Public Works Department, 3505 North Dries Lane, Peoria, IL 61604 | Jan. 27, 2016 | 170536
Peoria (FEMA Docket No.: B-1551) | Unincorporated areas of Peoria County (15-05-2741P) | The Honorable Thomas O'Neill Chairman, Peoria County Board, County Courthouse, Room 502, 324 Main Street, Peoria, IL 61602 | County Courthouse, 324 Main Street, Peoria, IL 61602 | Jan. 27, 2016 | 170533
Indiana:
Monroe (FEMA Docket No.: B-1559) | City of Bloomington (15-05-2536P) | The Honorable Mark Kruzan, Mayor, City of Bloomington, 401 North Morton Street, Suite 210, Bloomington, IN 47404 | City Hall, 401 North Morton Street Suite 110, c/o Clerk, City of Bloomington, Nicole Bolden, Bloomington, IN 47404 | Feb. 11, 2016 | 180169
Monroe (FEMA Docket No.: B-1559) | Unincorporated areas of Monroe County (15-05-2536P) | The Honorable Julie Thomas, President, Monroe County Commissioners, 100 West Kirkwood Avenue, Courthouse, 3rd Floor, Bloomington, IN 47404 | County Courthouse, 100 West Kirkwood Avenue, Room 306, Bloomington, IN 47404 | Feb. 11, 2016 | 180444
Michigan:
Wayne (FEMA Docket No.: B-1551) | City of Romulus (15-05-1538P) | The Honorable LeRoy Burcroff, Mayor, City of Romulus, 11111 Wayne Road, Romulus, MI 48174 | City Hall, 11111 Wayne Road, Romulus, MI 48174 | Jan. 8, 2016 | 260381
Minnesota:
Dakota (FEMA Docket No.: B-1559) | City of Lakeville (15-05-2198P) | The Honorable Matt Little, Mayor, City of Lakeville, 20195 Holyoke Avenue, Lakeville, MN 55044 | City Hall, 20195 Holyoke Avenue, Lakeville, MN 55044 | Feb. 4, 2016 | 270107
Norman (FEMA Docket No.: B-1559) | City of Ada (15-05-5324P) | The Honorable Jim Ellefson, Mayor, City of Ada, 15 East 4th Avenue, Ada, MN 56510 | City Hall, 404 West Main Street, Ada, MN 56510 | Feb. 17, 2016 | 270323
Norman (FEMA Docket No.: B-1559) | Unincorporated areas of Norman County (15-05-5324P) | Ms. Lee Ann Hall, Commissioner, Norman County, 16 3rd Avenue East, Ada, MN 56510 | Norman County Courthouse, 16 3rd Avenue East, Ada, MN 56510 | Feb. 17, 2016 | 270322
Missouri:
Cass FEMA Docket No.: B-1559) | City of Belton (15-07-1479P) | The Honorable Jeff Davis, Mayor, City of Belton, 411 Westover Court, Belton, MO 64012 | City Hall Annex, 520 Main Street, Belton, MO 64012 | Feb. 5, 2016 | 290062
Howell (FEMA Docket No.: B-1559) | City of Willow Springs (15-07-2193P) | The Honorable Kim Wehmer, Mayor, City of Willow Springs, 900 West Main Street, P.O. Box 190, Willow Springs, MO 65793 | City Hall, 900 West Main Street, Willow Springs, MO 65793 | Feb. 17, 2016 | 290167
Jackson FEMA Docket No.: B-1551) | City of Kansas City (15-07-1558P) | The Honorable Sly James, Mayor, City of Kansas City, 414 East 12th Street, 29th Floor, Kansas City, MO 64106 | City Hall, 414 East 12th Street, 25th Floor, c/o City Clerk, Marilyn Sanders, Kansas City, MO 64106 | Jan. 15, 2016 | 290173
Ohio:
Franklin FEMA Docket No.: B-1559) | City of Dublin (15-05-5393P) | The Honorable Michael Keenan, Mayor, City of Dublin, 5200 Emerald Parkway, Dublin, OH 43017 | Dublin Engineering Building, 5800 Shier-Rings Road, Dublin, OH 43017 | Feb. 5, 2016 | 390673
Franklin FEMA Docket No.: B-1559) | City of Grove City (15-05-7153P) | The Honorable Richard I. Stage, Mayor, City of Grove City, 4035 Broadway, Grove City, OH 43123 | City Hall, 4035 Broadway, Grove City, OH 43123 | Feb. 23, 2016 | 390173
Hocking FEMA Docket No.: B-1551) | City of Logan (15-05-6391X) | The Honorable J. Martin Irvine, Mayor, City of Logan, 10 South Mulberry Street, Logan, OH 43138 | City Auditor, 10 South Mulberry Street, Logan, OH 43138 | Jan. 9, 2016 | 390274
Hocking FEMA Docket No.: B-1551) | Unincorporated areas of Hocking County (15-05-6391X) | Mr. Larry Dicken, County Commissioner, Hocking County, 1 East Main Street, Logan, OH 43138 | Hocking County Board of Elections, 93 West Hunter Street, Logan, OH 43138 | Jan. 9, 2016 | 390272
Oregon:
Lane (FEMA Docket No.: B-1551) | City of Creswell (15-10-1143P) | The Honorable Dave Stram, Mayor, City of Creswell, P.O. Box 276, Creswell, OR 97426 | City Hall, 13 South 1st Street, Creswell, OR 97426 | Jan. 15, 2016 | 410121
Lane (FEMA Docket No.: B-1551) | Unincorporated areas of Lane County (15-10-1143P) | The Honorable Faye Stewart, Commissioner, East Lane County, Lane County Public Service Building, 125 East 8th Street, Eugene, OR 97401 | Lane County Planning Department, Public Service Building, 125 East 8th Street, Eugene, OR 97401 | Jan. 15, 2016 | 415591
Multnomah (FEMA Docket No.: B-1531) | City of Portland (15-10-0392P) | The Honorable Charlie Hales, Mayor, City of Portland, 1221 Southwest 4th Avenue, Room 340, Portland, OR 97204 | Bureau of Environmental Services, 1221 Southwest 4th Avenue, Room 230, Portland, OR 97204 | Nov. 13, 2015 | 410183
Tennessee:
Sevier (FEMA Docket No.: B-1559) | City of Sevierville (15-04-2363P) | The Honorable Bryan C. Atchley, Mayor, City of Sevierville, 120 Gary Wade Boulevard, P.O. Box 5500, Sevierville, TN 37864 | City Hall, 120 Gary Wade Boulevard, Sevierville, TN 37862 | Feb. 16, 2016 | 475444
Texas:
Tarrant (FEMA Docket No.: B-1544) | City of Arlington (15-06-2414P) | The Honorable Jeff Williams, Mayor, City of Arlington, 101 East Abram Street, Arlington, TX 76010 | City Hall, 101 East Abram Street, Arlington, TX 76010. | Jan. 6, 2016 | 485454
Tarrant (FEMA Docket No.: B-1531) | City of Bedford (14-06-4249P) | The Honorable Jim Griffin, Mayor, City of Bedford, City Hall, 2000 Forest Ridge Drive, Bedford, TX 76021 | Public Works Office, 1813 Reliance Parkway, Bedford, TX 76021 | Oct. 20, 2015 | 480585
Tarrant (FEMA Docket No.: B-1531) | City of Colleyville (14-06-4249P) | The Honorable David Kelly, Mayor, City of Colleyville, City Hall, 100 Main Street, Colleyville, TX 76034 | Public Works Office, 100 Main Street, Colleyville, TX 76034 | Oct. 20, 2015 | 480590
Tarrant (FEMA Docket No.: B-1531) | City of Euless (14-06-4249P) | The Honorable Linda Martin, Mayor, City of Euless, City Hall, 201 North Ector Drive, Euless, TX 76039 | Planning and Engineering Building, 201 North Ector Drive, Euless, TX 76039 | Oct. 20, 2015 | 480593
Tarrant (FEMA Docket No.: B-1551) | City of Fort Worth (15-06-2612P) | The Honorable Betsy Price, Mayor, City of Fort Worth, 1000 Throckmorton Street, Fort Worth, TX 76102 | Department of Transportation and Public Works, 1000 Throckmorton Street, Fort Worth, TX 76102 | Jan. 8, 2016 | 480596
Tarrant (FEMA Docket No.: B-1551) | City of Haltom City (15-06-2612P) | The Honorable David Averitt, Mayor, City of Haltom City, 5024 Broadway Avenue, Haltom City, TX 76117 | City Hall, 5024 Broadway Avenue, Haltom City, TX 76117 | Jan. 8, 2016 | 480599
Wisconsin:
Calumet (FEMA Docket No.: B-1551) | Unincorporated areas of Calumet County (15-05-1737P) | Mr. Todd Romenesko, Calumet County Administrator, 206 Court Street, Chilton, WI 53014 | City Hall, 206 Court Street, Chilton, WI 53014 | Jan. 8, 2016 | 550035
Dane (FEMA Docket No.: B-1559) | City of Sun Prairie (15-05-4807P) | The Honorable Paul T. Esser, Mayor, City of Sun Prairie, 300 East Main Street, 2nd Floor, Sun Prairie, WI 53590 | City Hall, 300 East Main Street, Sun Prairie, WI 53590 | Feb. 12, 2016 | 550573
Dane (FEMA Docket No.: B-1559) | Unincorporated areas of Dane County (15-05-4807P) | Mr. Joe Parisi, Dane County Executive, City County Building, Room 421, 210 Martin Luther King Jr. Boulevard, Madison, WI 53703 | City County Building, 210 Martin Luther King Jr. Boulevard, Room 116, Madison, WI 53703 | Feb. 12, 2016 | 550077

[FR Doc. 2016-09458 Filed 4-22-16; 8:45 am]

BILLING CODE 9110-12-P